INTERNATIONAL TRADE COMMISSION

[Investigation Nos. 731-TA-1422-1423 (Preliminary)]

Strontium Chromate From Austria and France

Determination

On the basis of the record ¹ developed in the subject investigations, the United States International Trade Commission (“Commission”) determines, pursuant to the Tariff Act of 1930 (“the Act”), that there is a reasonable indication that an industry in the United States is materially injured by reason of imports of strontium chromate from Austria and France provided for in subheadings 2841.50.91 and 3212.90.00 of the Harmonized Tariff Schedule of the United States, that are alleged to be sold in the United States at less than fair value (“LTFV”).²

¹ The record is defined in sec. 207.2(f) of the Commission's Rules of Practice and Procedure (19 CFR 207.2(f)).

² 83 FR 49543 (October 2, 2018).

Commencement of Final Phase Investigations

Pursuant to section 207.18 of the Commission's rules, the Commission also gives notice of the commencement of the final phase of its investigations. The Commission will issue a final phase notice of scheduling, which will be published in the Federal Register as provided in section 207.21 of the Commission's rules, upon notice from the U.S. Department of Commerce (“Commerce”) of affirmative preliminary determinations in the investigations under section 733(b) of the Act, or, if the preliminary determinations are negative, upon notice of affirmative final determinations in those investigations under section 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 5, 2018, WPC Technologies, Oak Creek, Wisconsin, filed a petition with the Commission and Commerce, alleging that an industry in the United States is materially injured by reason of LTFV imports of strontium chromate from Austria and France. Accordingly, effective September 5, 2018, the Commission, pursuant to section 733(a) of the Act (19 U.S.C. 1673b(a)), instituted antidumping duty investigation Nos. 731-TA-1422-1423 (Preliminary).

Notice of the institution of the Commission's investigations and of a public conference to be held in connection therewith was given by posting copies of the notice in the Office of the Secretary, U.S. International Trade Commission, Washington, DC, and by publishing the notice in the Federal Register of September 12, 2018 (82 FR 46189). The conference was held in Washington, DC, on September 26, 2018, and all persons who requested the opportunity were permitted to appear in person or by counsel.

The Commission made these determinations pursuant to section 733(a) of the Act (19 U.S.C. 1673b(a)). It completed and filed its determinations in these investigations on October 22, 2018. The views of the Commission are contained in USITC Publication 4836 (October 2018), entitled Strontium Chromate from Austria and France: Investigation Nos. 731-TA-1422-1423 (Preliminary).

By order of the Commission.
Issued: October 23, 2018.
Jessica Mullan,
Attorney Advisor.

[FR Doc. 2018-23490 Filed 10-25-18; 8:45 am]

BILLING CODE 7020-02-P